NUCLEAR REGULATORY COMMISSION

Draft Supplementary Changes to Revision 8 of NUREG-1021, “Operator Licensing Examination Standards for Power Reactors;” Notice of Availability

AGENCY: Nuclear Regulatory Commission.

ACTION: Notice of availability and extension of comment period.

SUMMARY: On March 20, 2000 (65 FR 15020), the Nuclear Regulatory Commission (NRC) issued for public comment and voluntary use, on a trial basis, a draft supplementary change to Revision 8 of NUREG-1021, “Operator Licensing Examination Standards for Power Reactors.” The Commission uses NUREG-1021 to provide policy and guidance for the development, administration, and grading of written examinations and operating tests used to determine the qualifications of individuals who apply for operator and senior operator licenses at nuclear power plants pursuant to the Commission's regulations. NUREG-1021 provides similar guidance for verifying the continued qualifications of licensed operators when the staff determines that NRC requalification examinations are necessary.

Based upon the small number of examinations that have thus far been prepared using the revised examination guidance, the NRC has decided to extend the trial use and public comment period for the draft supplementary change in order to allow additional opportunities for feedback that will support the issuance of the final supplement. This delay in preparing the final supplement has also created an opportunity to solicit comments on some additional changes that will bring NUREG-1021 into conformance with Revision 3 of Regulatory Guide (RG) 1.8, “Qualification and Training of Personnel for Nuclear Power Plants,” which has been published since the original draft supplement was issued on March 20, 2000. Revision 3 of RG 1.8 has revised a long-standing regulatory position regarding operator license eligibility by endorsing, with additions, exceptions, and clarifications, the 1993 version of ANSI/ANS 3.1, “Selection, Qualification, and Training of Personnel for Nuclear Power Plants.”

The draft supplement and the newly issued addendum are available for review via the NRC Public Electronic Reading Room (http://www.nrc.gov/NRC/ADAMS/index.html), on the NRC's Operator Licensing web site (http://www.nrc.gov/NRC/REACTOR/OL/OLguidance.html), and at the NRC Public Document Room, 2120 L Street NW, Washington, DC. If you do not have electronic access to NRC documents, you may request a single copy of the draft supplement by writing to the Office of the Chief Information Officer, Reproduction and Distribution Services Section, U.S. Nuclear Regulatory Commission, Washington, DC 20555-0001 (Facsimile: 301-512-2289). Telephone requests cannot be accommodated. NUREG documents are not copyrighted, and Commission approval is not required to reproduce them.

The draft supplement is being implemented on a voluntary, trial basis. The NRC will evaluate any comments and recommendations that are received and any lessons that are learned during the trial period, incorporate any additional changes, as appropriate, and, thereafter, publish final Supplement 1 for general use.

DATE: The comment period ends October 31, 2000. Comments received after this date will be considered if it is practical to do so, but the staff is able to assure consideration only for comments received on or before this date.

ADDRESSES: Written comments may be submitted to the Rules and Directives Branch, Division of Administrative Services, Office of Administration, U.S. Nuclear Regulatory Commission, Washington, DC 20555-0001. You may also provide comments via the NRC's Operator Licensing web site (http://www.nrc.gov/NRC/REACTOR/OL/OLguidance.html). Copies of comments received may be examined on the NRC Public Electronic Reading Room (http://www.nrc.gov/NRC/ADAMS/index.html) and at the NRC Public Document Room, 2120 L Street NW, Washington, DC.

FOR FURTHER INFORMATION CONTACT: Mr. S. Guenther by telephone at (301) 415-1056, or by e-mail sxg@nrc.gov.

Dated at Rockville, Maryland, this 6th day of July 2000.
For the Nuclear Regulatory Commission.
Glenn M. Tracy,
Chief, Operator Licensing, Human Performance and Plant Support Branch, Division of Inspection Program Management, Office of Nuclear Reactor Regulation.

[FR Doc. 00-18022 Filed 7-14-00; 8:45 am]

BILLING CODE 7590-01-P